DEPARTMENT OF TRANSPORTATION

Federal Aviation Administration

14 CFR Part 39

[Docket No. FAA-2011-0307; Directorate Identifier 2010-NM-111-AD; Amendment 39-16747; AD 2011-14-12]

RIN 2120-AA64

Airworthiness Directives; Saab AB, Saab Aerosystems Model SAAB 2000 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

A report has been received of an incident where one of the two bolts attaching the actuator mounting bracket to the MLG [main landing gear] Shock Strut was found loose, leading to failure of the other attachment bolt, subsequently resulting in failure of the bracket.

This condition, if not detected and corrected, could prevent the MLG to extend to the full down-and-locked position, possibly resulting in MLG collapse upon landing or during roll-out, with consequent damage to the aeroplane and injury to the occupants.

* * * * *

We are issuing this AD to require actions to correct the unsafe condition on these products.

DATES: This AD becomes effective August 19, 2011.

The Director of the Federal Register approved the incorporation by reference of a certain publication listed in this AD as of August 1, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Discussion

We issued a notice of proposed rulemaking (NPRM) to amend 14 CFR part 39 to include an AD that would apply to the specified products. That NPRM was published in the Federal Register on April 8, 2011 (76 FR 19719). That NPRM proposed to correct an unsafe condition for the specified products. The MCAI states:

A report has been received of an incident where one of the two bolts attaching the actuator mounting bracket to the MLG Shock Strut was found loose, leading to failure of the other attachment bolt, subsequently resulting in failure of the bracket.

This condition, if not detected and corrected, could prevent the MLG to extend to the full down-and-locked position, possibly resulting in MLG collapse upon landing or during roll-out, with consequent damage to the aeroplane and injury to the occupants.

To correct this potentially unsafe condition, SAAB has published Service Bulletin (SB) 2000-32-073, describing a [detailed] inspection of the attachment bolts [and nuts] to detect any loose bolts [and nuts], follow-up corrective action(s), depending on findings, and the installation of the correct number of washers.

For the reasons described above, this EASA AD requires the accomplishment of the actions described in SAAB SB 2000-32-073.

Required actions, if any loose parts are found, include replacing the bolt with a new bolt, and then doing a detailed inspection of the bolts for uniform or fretting corrosion; a detailed inspection of the actuator mounting bracket and shock struts for damage, cracks, and signs of corrosion; and doing corrective actions if necessary. Corrective actions include removing corrosion, replacing affected bolts with new bolts, tightening loose nuts, repairing, and installing the correct number of washers. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 8 products of U.S. registry. We also estimate that it will take about 1 work-hour per product to comply with the basic requirements of this AD. The average labor rate is $85 per work-hour. Required parts will cost about $1,039 per product. Where the service information lists required parts costs that are covered under warranty, we have assumed that there will be no charge for these parts. As we do not control warranty coverage for affected parties, some parties may incur costs higher than estimated here. Based on these figures, we estimate the cost of this AD to the U.S. operators to be $8,992, or $1,124 per product.

In addition, we estimate that any necessary follow-on actions would take about 10 work-hours and require parts costing $1,039, for a cost of $1,889 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-14-12 Saab AB, Saab Aerosystems: Amendment 39-16747. Docket No. FAA-2011-0307; Directorate Identifier 2010-NM-111-AD.

Effective Date

(a) This airworthiness directive (AD) becomes effective August 19, 2011.

Affected ADs

(b) None.

Applicability

(c) This AD applies to all Saab AB, Saab Aerosystems Model SAAB 2000 airplanes, certificated in any category.

Subject

(d) Air Transport Association (ATA) of America Code 32: Landing gear.

Reason

(e) The mandatory continuing airworthiness information (MCAI) states:

A report has been received of an incident where one of the two bolts attaching the actuator mounting bracket to the MLG [main landing gear] Shock Strut was found loose, leading to failure of the other attachment bolt, subsequently resulting in failure of the bracket.

This condition, if not detected and corrected, could prevent the MLG to extend to the full down-and-locked position, possibly resulting in MLG collapse upon landing or during roll-out, with consequent damage to the aeroplane and injury to the occupants.

* * * * *

Compliance

(f) You are responsible for having the actions required by this AD performed within the compliance times specified, unless the actions have already been done.

Inspection

(g) Within 12 months after the effective date of this AD, do a detailed inspection for any loose top bolt and nut of the shock strut actuator mounting bracket of both the left-hand and right-hand main landing gear (MLG), in accordance with paragraph 2.B. of the Accomplishment Instructions of Saab Service Bulletin 2000-32-073, Revision 01, dated October 20, 2009.

Corrective Actions

(h) If any loose bolt or nut is found during the inspection required by paragraph (g) of this AD, before further flight, replace the bolt with a new bolt and accomplish paragraphs (h)(1) and (h)(2) of this AD, in accordance with paragraph 2.C. of the Accomplishment Instructions of Saab Service Bulletin 2000-32-073, Revision 01, dated October 20, 2009.

(1) Do a detailed inspection of the bottom bolts for uniform or fretting corrosion. If any corrosion is found, before further flight, accomplish all applicable corrective actions, in accordance with the Accomplishment Instructions of Saab Service Bulletin 2000-32-073, Revision 01, dated October 20, 2009.

(2) Do a detailed inspection for damage, cracks, and other signs of deterioration of the actuator mounting bracket and shock strut. If signs of damage, cracks, or other signs of deterioration are found on the actuator mounting bracket or the shock strut, before further flight, repair in accordance with a method approved by the Manager, International Branch, ANM-116, Transport Airplane Directorate, FAA, or the European Aviation Safety Agency (EASA) (or its delegated agent).

(i) Within 12 months after the effective date of this AD, unless already accomplished in accordance with paragraph (h) of this AD, install the correct number of washers for both the top and bottom bolts of the shock strut actuator mounting bracket of both MLG, in accordance with paragraph 2.C. of the Accomplishment Instructions of Saab Service Bulletin 2000-32-073, Revision 01, dated October 20, 2009.

Credit for Actions Accomplished in Accordance With Previous Service Information

(j) Actions accomplished before the effective date of this AD in accordance with Saab Service Bulletin 2000-32-073, dated June 26, 2009, are considered acceptable for compliance with the corresponding actions specified in this AD.

FAA AD Differences

Note 1: This AD differs from the MCAI and/or service information as follows:

No differences.

Other FAA AD Provisions

(k) The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue, SW., Renton, Washington 98057-3356; telephone (425) 227-1112; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to MCAI EASA Airworthiness Directive 2010-0069, dated April 14, 2010; and Saab Service Bulletin 2000-32-073, Revision 01, dated October 20, 2009; for related information.

Material Incorporated by Reference

(m) You must use Saab Service Bulletin 2000-32-073, Revision 01, dated October 20, 2009, to do the actions required by this AD, unless the AD specifies otherwise.

(1) The Director of the Federal Register approved the incorporation by reference of this service information under 5 U.S.C. 552(a) and 1 CFR part 51.

(2) For service information identified in this AD, contact Saab AB, Saab Aerosystems, SE-581 88, Linköping, Sweden; telephone +46 13 18 5591; fax +46 13 18 4874; e-mail saab2000.techsupport@saabgroup.com; Internet http://www.saabgroup.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 1, 2011.
Jeffrey E. Duven,
Acting Manager, Transport Airplane Directorate, Aircraft Certification Service.

[FR Doc. 2011-17576 Filed 7-14-11; 8:45 am]

BILLING CODE 4910-13-P